DEPARTMENT OF ENERGY

Federal Energy Regulatory Commission

[Project No. 2582-027]

Rochester Gas and Electric Corp., LLC; Notice of Availability of Draft Environmental Assessment

October 30, 2008.

In accordance with the National Environmental Policy Act of 1969 and the Federal Energy Regulatory Commission (Commission or FERC) regulations contained in the Code of Federal Regulations (CFR) (18 CFR Part 380), the Office of Energy Projects staff (staff) reviewed Rochester Gas and Electric Corporation LLC's request to amend the license for the Station 2 Project (FERC No. 2582) to upgrade an existing hydroelectric unit and install a new unit in a new powerhouse and prepared a draft Environmental Assessment (DEA) for the project. In this DEA, staff analyzes the potential environmental effects of the Proposed Action and concludes that the proposal, with recommended mitigation measures, would not constitute a major federal action significantly affecting the quality of the human environment. The project is located on the Genesee River in Monroe County, New York.

A copy of the DEA is available for review at the Commission in the Public Reference Room, or it may be viewed on the Commission's Web site at http://www.ferc.gov using the e-Library link. Enter the docket number (P-2582) in the docket number field to access the document. For assistance, contact FERC Online Support at FERCOnlineSupport@ferc.gov or call toll-free at 1-866-208-3676 or (202) 502-8659 (for TTY).

Any comments should be filed within 30 days from the issuance date of this notice, and should be addressed to the Secretary, Federal Energy Regulatory Commission, 888 First Street, NE., Washington, DC 20426. Please reference the Station 2 Project No. 2582, on all comments. For further information on this notice, please contact John K. Novak at (202) 502-6076.

Comments may be filed electronically via the Internet in lieu of paper. See 18 CFR 385.2001(a)(1)(iii) and the instructions on the Commission's Web site at http://www.ferc.gov under the e-Filing link. The Commission strongly encourages electronic filing.

Kimberly D. Bose,
Secretary.

[FR Doc. E8-26454 Filed 11-5-08; 8:45 am]

BILLING CODE 6717-01-P